DEPARTMENT OF DEFENSE

Department of the Army

Program for Qualifying Department of Defense (DoD) Brokers

AGENCY: Military Traffic Management Command (MTMC), DoD.

ACTION: Notice.

SUMMARY: The Military Traffic Management Command (MTMC), as the Program Director for the Department of Defense (DoD), Proposes to allow relocation companies operating as brokers to participate as transportation providers in the movement of personal property under the current program for both domestic and international traffic. Therefore, the carrier qualification program is being amended to add qualification standards for brokers and to expand the Tender of Service to include brokers. The effect is that brokers will be eligible to compete in DoD's Personal Property Program. Under these procedures, brokers interested in competing for DoD traffic can apply for qualification by complying with all requirements as set forth in the current personal property program. Requirements can be assessed via the worldwide web at www.mtmc.army.mil, click Transportation Services, then click on Personal Property & POV. Follow the “How to Do Business in the Personal Property Program,” instructions located under Carriers Approvals & Performance.

DATES: Comments must be submitted on or before February 16, 2001.

FOR FURTHER INFORMATION CONTACT: Ms. Sylvia Walker, Headquarters, Military Traffic Management Command, ATTN: MTPP-HQ, Room 10N67-51, Hoffman Building II, 200 Stovall St., Alexandria, VA 22332-5000; Telephone (703) 428-2982; Telefax (703) 428-3388.

SUPPLEMENTARY INFORMATION:

Background

HQMTMC is allowing relocation companies operating as brokers to participate in the current personal property program. A broker is defined as a person or company who, for compensation, provides transportation services for DoD shippers, with reasonable diligence, according to the terms and conditions of transportation contracts, rate tenders and Government bills of lading (GBL's) negotiated between MTMC and the broker. The broker understands that its initial approval and retention of approval are contingent upon its meeting or exceeding all the requirements set forth in the current personal property program, both domestic and/or international, which ever is applicable. Brokers may participate in one or both programs. Brokers must also establish and maintain to MTMC's satisfaction, sufficient resources to support its proposed scope of operations and service. Sufficient resources include equipment, personnel, facilities and finances to handle traffic anticipated by DoD/MTMC under the broker's proposed scope of operations in accordance with the service requirements of the shipper. The broker understands that MTMC may revoke approval at any time upon discovery of grounds for ineligibility or disqualification. Applications may be submitted to Sylvia Walker at the address shown above.

Regulatory Flexibility Act

This proposed change of procurement policy is not considered rule making within the meaning of the Regulatory Flexibility Act, 5 U.S.C. 601-612.

Paperwork Reduction Act

The Paperwork Reduction Act 44 U.S.C. 3501 et seq. does not apply because no information collection requirements or records keeping responsibilities are imposed on offerors, contractors, or members of the general public.

Gregory D. Showalter,
Army Federal Register Liaison Officer.

[FR Doc. 00-31980 Filed 12-15-00; 8:45 am]

BILLING CODE 3710-08-P